DEPARTMENT OF TRANSPORTATION

Federal Aviation Administration

14 CFR Part 71

[Docket No. FAA-2024-2226; Airspace Docket No. 24-ASW-1]

RIN 2120-AA66

Amendment of RNAV Route Q-33 in the Vicinity of Winnfield, LA

AGENCY: Federal Aviation Administration (FAA), DOT.

ACTION: Final rule.

SUMMARY: This action amends United States Area Navigation (RNAV) Route Q-33. The FAA is taking this action due to the planned decommissioning of the Very High Frequency Omnidirectional Range (VOR) portion of the Sawmill, LA (SWB), VOR/Distance Measuring Equipment (VOR/DME) navigational aid (NAVAID). Additionally, this action amends Jet Route J-180 as proposed in Docket No. FAA-2023-2269 to include all Air Traffic Service (ATS) routes affected by the planned decommissioning of the VOR portion of the Sawmill VOR/DME NAVAID in one final rule.

DATES: Effective date 0901 UTC, June 12, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The FAA published a NPRM for Docket No. FAA-2024-2226 in the Federal Register (89 FR 77053; September 20, 2024), proposing to amend United States RNAV Route Q-33 due to the planned decommissioning of the VOR portion of the Sawmill, LA, VOR/DME NAVAID. Interested parties were invited to participate in this rulemaking effort by submitting written comments on the proposal. No comments were received.

Prior to publishing the NPRM for Docket No. FAA-2024-2226, the FAA published a NPRM for Docket No. FAA-2023-2269 in the Federal Register (88 FR 85133; December 7, 2023), proposing to amend Jet Route 180 due to the relocation of the Little Rock, AR, VORTAC and the scheduled decommissioning of the VOR portion of the Daisetta, TX, VORTAC and the Sawmill, LA, VOR/DME. Interested parties were invited to participate in that rulemaking effort by submitting written comments on the proposal to the FAA. No comments were received.

Differences From the NPRM

To streamline the publication of final rules addressing the ATS routes affected by the planned decommissioning of the VOR portion of the Sawmill, LA, VOR/DME, the FAA decided to combine the amendment for Jet Route J-180 proposed in Docket No. FAA-2023-2269 with the amendments proposed in Docket No. FAA-2024-2226. This final rule does not address the amendments to Jet Routes J-6, J-14, J-66, J-101, and J-131; the amendments to VOR Federal Airways V-54, V-74, V-124, V-305, V-532, and V-573; or the revocation of VOR Federal Airway V-534 as proposed in Docket No. FAA-2023-2269. Those proposed changes will be addressed in a separate final rule document.

Incorporation by Reference

Jet Routes are published in paragraph 2004 and United States Area Navigation Routes are published in paragraph 2006 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending Jet Route J-180 and RNAV Route Q-33 due to the planned decommissioning of the VOR portion of the Sawmill, LA, VOR/DME. The ATS route changes are described below.

J-180: Prior to this final rule, J-180 extended between the Humble, TX, VORTAC and the Foristell, MO, VORTAC. The route segment between the Humble VORTAC and the Little Rock, AR, VORTAC is removed. Instrument Flight Rules (IFR) traffic may continue to use parallel Jet Routes J-101 and J-29. Additionally, IFR pilots with RNAV-equipped aircraft may navigate via point-to-point using the Fixes that will remain in place or request air traffic control radar vectors through and around the affected area. As amended, the route is changed to extend between the Little Rock VORTAC and the Foristell VORTAC.

Q-33: Prior to this final rule, Q-33 extended between the Humble, TX, VORTAC and the PROWL, MO, waypoint (WP). The Sawmill, LA, VOR/DME route point is replaced with the SWEUP, LA, WP and the Daisetta, TX, VORTAC route point is replaced with the TAYUR, TX, WP. Both WPs are established in the immediate vicinity of the NAVAIDs they are replacing and result in extremely minor alignment changes of the route. As amended, the route will continue to extend between the Humble VORTAC and the PROWL WP.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending United States RNAV Route Q-33, due to the planned decommissioning of the VOR portion of the Sawmill, LA, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2, regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-180 [Amended]

From Little Rock, AR; to Foristell, MO.

* * * * *

Paragraph 2006 United States Area Navigation Routes.

* * * * *

Q-33 Humble, TX (IAH) to PROWL, MO [Amended]
Humble, TX (IAH) | VORTAC | (Lat. 29°57′24.90″ N, long. 095°20′44.59″ W)
TAYUR, TX | WP | (Lat. 30°11′23.40″ N, long. 094°38′41.48″ W)
SWEUP, LA | WP | (Lat. 31°58′23.07″ N, long. 092°40′38.00″ W)
LITTR, AR | WP | (Lat. 34°40′39.90″ N, long. 092°10′49.26″ W)
PROWL, MO | WP | (Lat. 37°02′00.00″ N, long. 091°15′00.00″ W)

* * * * *

Issued in Washington, DC, on March 24, 2025.
Brian Eric Konie,
Manager (A), Rules and Regulations Group.

[FR Doc. 2025-05285 Filed 3-28-25; 8:45 am]

BILLING CODE 4910-13-P